DEPARTMENT OF COMMERCE

National Oceanic and Atmospheric Administration

[I.D. 020105M]

Proposed Information Collection; Comment Request; Evaluation of the Coastal Services Magazine and the Coastal Connections Newsletter

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 8, 2005.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to: Donna McCaskill, NOAA Coastal Services Center, 2234 South Hobson Avenue, Charleston, SC 29405 (or via the Internet at Donna.Mccaskill@noaa.gov).

SUPPLEMENTARY INFORMATION:

I. Abstract

The Coastal Services Center (Center) produces two publications for coastal resource managers, the bi-monthly Coastal Services magazine and the bi-monthly Coastal Connections newsletter. This research will be used by the NOAA Coastal Services Center to obtain information from our subscribers to evaluate customer satisfaction, learning, and application regarding the two publications.

II. Method of Collection

A paper survey to subscribers.

III. Data

OMB Number: None.

Form Number: None.

Type of Review: Regular submission.

Affected Public: Publication subscribers including Federal government; State, Local, or Tribal government staff (e.g., natural resource management agencies); not-for-profit institutions; academia.

Estimated Number of Respondents: 900.

Estimated Time Per Response: 20 minutes.

Estimated Total Annual Burden Hours: 300 minutes.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 28, 2005.
Gwellnar Banks,
Management Analyst, Office of the Chief Information Officer.

[FR Doc. 05-2288 Filed 2-4-05; 8:45 am]

BILLING CODE 3510-JE-S